DEPARTMENT OF TRANSPORTATION

Maritime Administration

[Docket No. MARAD-2000-7158]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before June 5, 2000.

FOR FURTHER INFORMATION CONTACT: John Wiegand, Maritime Administration, MAR 611, 400 Seventh St., SW, Washington, DC 20590. Telephone:—202-366-2627. FAX 202-366-3889.

Copies of this collection can also be obtained from that office.

SUPPLEMENTARY INFORMATION: Title of Collection: Maintenance and Repair Cumulative Summary.

Type of Request: Extension of currently approved information collection.

OMB Control Number: 2133-0007.

Form Numbers: MA-140.

Expiration Date of Approval: November 30, 2000.

Summary of Collection of Information: The collection consists of form MA-140 to which are attached invoices and other supporting documents for expenses claimed for subsidy. Subsidized operators submit form MA-140 to the appropriate MARAD region office for review within 60 days of the termination of a subsidized voyage.

Need and Use of the Information: The collected information is necessary to perform the reviews required in order to permit payment of Maintenance and Repair subsidy.

Annual Responses: 25.

Annual Burden: 300 hours.

Comments: Comments should refer to the docket number that appears at the top of this document. Written comments may be submitted to the Docket Clerk, U.S. DOT Dockets, Room PL-401, 400 Seventh Street, SW, Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT, Monday through Friday, except Federal Holidays. An electronic version of this document is available on the World Wide Web at http://dms.dot.gov.

By Order of the Maritime Administrator.
Dated: March 29, 2000.
Joel C. Richard,
Secretary.

[FR Doc. 00-8253 Filed 4-3-00; 8:45 am]

BILLING CODE 4910-81-P